DEPARTMENT OF THE INTERIOR

National Park Service

Notice of Inventory Completion: The Colorado College, Colorado Springs, CO

AGENCY: National Park Service, Interior.

ACTION: Notice.

Notice is here given in accordance with the Native American Graves Protection and Repatriation Act (NAGPRA), 25 U.S.C. 3003, of the completion of an inventory of human remains in the possession of The Colorado College, Colorado Springs, CO. The human remains were removed from Pueblo, El Paso, Fremont, Las Animas, and either Lincoln or Elbert Counties in eastern Colorado.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by The Colorado College professional staff in consultation with representatives of the Apache Tribe of Oklahoma; Arapahoe Tribe of the Wind River Reservation, Wyoming; Cheyenne-Arapaho Tribes of Oklahoma; Comanche Nation, Oklahoma; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Southern Ute Indian Tribe of the Southern Ute Reservation, Colorado; Ute Indian Tribe of the Uintah & Ouray Reservation, Utah; and Ute Mountain Tribe of the Ute Mountain Reservation, Colorado, New Mexico & Utah.

In April 1960, human remains representing one individual were removed from Pueblo County, CO, by the Kenneth Englert family and donated to The Colorado College soon after (Accession no. 1980.2.3). In the summer of 1960, the human remains were sent to the University of Kansas for description and analysis and were then returned to The Colorado College. No known individual was identified. No associated funerary objects are present. Cranial morphology and burial context indicate that the human remains are Native American.

On April 14, 1966, human remains representing two individuals were discovered on Kelly Ranch along Horse Creek, approximately 60 miles east of Colorado Springs. It is not known whether Kelly Ranch was in southern Elbert County or in Lincoln County, CO. Horse Creek runs through both counties. Paul Kutsche of The Colorado College Anthropology Department retrieved the human remains and brought them back to the college. The human remains were curated in the Anthropology Department Archaeology Laboratory in Palmer Hall until 1989 and were then transferred to the Biological Anthropology Research Laboratory of Barnes Science Center (Accession no. 1980.2.4). No known individuals were identified. No associated funerary objects are present. Cranial morphology indicates that the human remains are Native American.

In spring of 1968, a young boy found human remains representing a minimum of one individual on a hillside south of Stratmoor Hills Golf Club, near the “B” Street entrance gate of Fort Carson, El Paso County, CO. The human remains were removed in July 1968 by Professor Michael Nowak of The Colorado College. The human remains were curated in the Anthropology Department Archaeology Laboratory in Palmer Hall until 1989 and then transferred to the Biological Anthropology Research Laboratory of Barnes Science Center (Accession no. 1980.2.5). No known individual was identified. No associated funerary objects are present. The burial site and context indicate that the human remains are Native American.

On May 3, 1989, human remains representing one individual were removed from site 5EP1175 on private land in Colorado Springs, El Paso County, CO. The discovery resulted from a construction project. After the county coroner and local police determined that the human remains were not of forensic significance, Ms. Kim Spurr of The Colorado College Anthropology Department took the human remains back to the college for study and curation (Accession no. El Paso Cty 050389). No known individual was identified. No associated funerary objects are present. Cranial morphology and the flexed position of the burial indicate that the human remains are Native American.

In 1985, human remains representing one individual were discovered on private land during operations at a gravel pit near Pikes Peak Meadows, south of Colorado Springs, El Paso County, CO. After investigation by the El Paso County Coroner's Office determined that there was no forensic significance, the human remains were transferred to the The Colorado College Anthropology Department in Palmer Hall for curation and educational purposes (Accession no. El Paso CCO #85A-235). In 1989, the human remains were moved to the Biological Anthropology Research Laboratory in Barnes Science Center. No known individual was identified. No associated funerary objects are present. Cranial morphology indicates that the human remains are Native American.

In 1989, human remains representing one individual were discovered eroding out of a cutbank along State Highway 115, Fremont County, CO. After investigation by the Fremont County Coroner's Office determined that there was no forensic significance, the human remains were transferred to the Biological Anthropology Research Laboratory, Barnes Science Center at The Colorado College for curation and educational purposes (Accession no. El Paso CCO 082989). No known individual was identified. No associated funerary objects are present. Cranial morphology indicates that the human remains are Native American.

In 1990, human remains representing one individual were discovered eroding from an embankment on private land in Las Animas County, CO. After investigation by the Las Animas County Coroner's Office determined that there was no forensic significance, the human remains were transferred to the Biological Anthropology Research Laboratory in Barnes Science Center at The Colorado College for curation and educational purposes (Accession no. CCO 071190). No known individual was identified. No associated funerary objects are present. Cranial morphology indicates that the human remains are Native American.

The map “Indian Land Areas Judicially Established 1978” includes the eastern Colorado counties of Pueblo, El Paso, Fremont, Lincoln, and Elbert in the land aboriginally occupied by the Cheyenne and Arapaho tribes. The Colorado Office of Archaeology and Historic Preservation map “Estimated Tribal Territories in Colorado During the Late Nineteenth Century” shows the presence of the Apache, Arapaho, Cheyenne, Comanche, and Kiowa in all of eastern Colorado. The Southern Ute Indian Tribe map “Original Ute Domain” includes El Paso, Pueblo, Fremont, Las Animas, Lincoln, and Elbert Counties as a part of the original domain of the Ute. Official tribal representatives provided folklore, oral tradition, geographical, and historical evidence of cultural affiliation, all of which indicated that eastern Colorado is a part of their traditional territory.

Officials of The Colorado College have determined that, pursuant to 25 U.S.C. 3001 (9-10), the human remains listed above represent the physical remains of eight individuals of Native American ancestry. Officials of The Colorado College also have determined that, pursuant to 25 U.S.C. 3001 (2), there is a relationship of shared group identity that can be reasonably traced between the Native American human remains and the Apache Tribe of Oklahoma; Arapahoe Tribe of the Wind River Reservation, Wyoming; Cheyenne-Arapaho Tribes of Oklahoma; Comanche Nation, Oklahoma; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Southern Ute Indian Tribe of the Southern Ute Reservation, Colorado; Ute Indian Tribe of the Uintah & Ouray Reservation, Utah; and Ute Mountain Tribe of the Ute Mountain Reservation, Colorado, New Mexico & Utah.

Representatives of any other Indian tribe that believes itself to be culturally affiliated with the human remains should contact Joyce Eastburg, Legal Assistant, The Colorado College, 14 East Cache La Poudre Street, Colorado Springs, CO 80903, telephone (719) 389-6703, before December 26, 2003. Repatriation of the human remains to the Southern Ute Indian Tribe of the Southern Ute Reservation, Colorado may proceed after that date if no additional claimants come forward.

The Colorado College is responsible for notifying the Apache Tribe of Oklahoma; Arapahoe Tribe of the Wind River Reservation, Wyoming; Cheyenne-Arapaho Tribes of Oklahoma; Comanche Nation, Oklahoma; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Southern Ute Indian Tribe of the Southern Ute Reservation, Colorado; Ute Indian Tribe of the Uintah & Ouray Reservation, Utah; and Ute Mountain Tribe of the Ute Mountain Reservation, Colorado, New Mexico & Utah that this notice has been published.

Dated: October 28, 2003.
John Robbins,
Assistant Director, Cultural Resources.

[FR Doc. 03-29508 Filed 11-25-03; 8:45 am]

BILLING CODE 4310-50-S